DEPARTMENT OF HOMELAND SECURITY

Office of the Secretary

Public Workshop: Operationalizing Privacy: Compliance Frameworks & Privacy Impact Assessments Session—A Tutorial on How to Write Privacy Impact Assessments and Privacy Threshold Analysis

AGENCY: Privacy Office, Department of Homeland Security (DHS).

ACTION: Notice announcing public workshop.

SUMMARY: The Privacy Office of the Department of Homeland Security will host a public workshop, Operationalizing Privacy: Compliance Frameworks & Privacy Impact Assessments (PIAs) Session—A Tutorial on How to Write PIAs and Privacy Threshold Analysis (PTAs).

DATES: The workshop will be held on Wednesday, July 12, 2006, from 8:30 a.m. to 12:30 p.m.

ADDRESSES: The workshop will be held in the Auditorium of the GSA Regional Headquarters, 7th & D Streets, SW., Washington, DC, 20024.

FOR FURTHER INFORMATION CONTACT: Kathleen Kavanaugh, Privacy Office, Department of Homeland Security, Arlington, VA 22202 by telephone (571) 227-3813, by facsimile (571) 227-4171, or by e-mail to privacyworkshop@dhs.gov.

SUPPLEMENTARY INFORMATION: The DHS Privacy Office is holding a public workshop that will provide in-depth training on how to write PIAs and PTAs. A case study will be used to illustrate a step-by-step approach to researching, preparing, and writing these documents.

The workshop is open to the public and there is no fee for attendance. For general security purposes, the GSA Regional Headquarters requires that all attendees show a valid form of photo identification, such as a driver's license, to enter the building.

The DHS Privacy Office has developed PIA guidance and templates for PIAs and PTAs for DHS programs. The guidance and templates are posted on our Web site at http://www.dhs.gov/privacy. In addition, the DHS Privacy Office will post information about the workshop, including a detailed agenda, on the Web site prior to the event.

Registration: Registration is recommended but not required. For non-registrants seating will be allocated on a first-come, first-served basis, so please arrive early. Persons with disabilities who require special assistance should indicate this in their admittance request and are encouraged to identify anticipated special needs as early as possible. You may register by e-mail at privacyworkshop@dhs.gov or by calling (571) 227-3813.

Dated: June 28, 2006.
Maureen Cooney,
Acting Chief Privacy Officer, Chief Freedom of Information Act Officer.

[FR Doc. E6-10582 Filed 7-6-06; 8:45 am]

BILLING CODE 4410-10-P